DEPARTMENT OF TRANSPORTATION

Federal Motor Carrier Safety Administration

[Docket No. FMCSA-2024-0061]

Request for Information Concerning the Study of Sexual Assault and Sexual Harassment in the Commercial Motor Vehicle Industry

AGENCY: Federal Motor Carrier Safety Administration (FMCSA), Department of Transportation (DOT).

ACTION: Notice; request for information.

SUMMARY: FMCSA is planning to undertake a study to understand and quantify the prevalence and severity of sexual assault and sexual harassment (SASH) experienced across the commercial motor vehicle (CMV) industry, particularly among drivers. FMCSA seeks information on how best to design and conduct a study to identify, categorize, and assess context and trends of SASH in the CMV industry. FMCSA is particularly interested in how to support women currently in these jobs and those seeking to enter the CMV industry. This RFI seeks information on how best to approach this study holistically in terms of statistical sampling, study design, and administering the appropriate data collection efforts. For example, FMCSA seeks information on how best to treat categories of gender, sexual orientation, and ethnicity in the study, as well as best practices in designing questions that use the latest standards for SASH research and address the breadth and lifecycles of careers in the CMV industry. This study builds on recommendations from FMCSA's Women of Trucking Advisory Board (WOTAB) to better understand problems of SASH among drivers, thereby helping identify possible countermeasures. FMCSA will use the results of this study to understand any potential regulatory or policy measures needed to improve driver safety and mitigate SASH; work with industry partners on outreach and other efforts to improve driver safety through SASH prevention; and support the participation of women in the CMV industry.

DATES: Comments on this notice must be received on or before March 11, 2024.

ADDRESSES: You may submit comments identified by Docket Number FMCSA-2024-0061 using any of the following methods:

• Go to https://www.regulations.gov/docket/FMCSA-2024-0061/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Nicole Katsikides, Ph.D., Senior Transportation Specialist, Research Division, FMCSA, 1200 New Jersey Avenue SE, Washington, DC 20590-0001; (202) 940-6645; Nicole.Katsikides@dot.gov. If you have questions on viewing or submitting material to the docket, contact Dockets Operations at (202) 366-9826.

SUPPLEMENTARY INFORMATION: FMCSA organizes this notice as follows:

I. Public Participation and Request for Comments

A. Submitting Comments

B. Viewing Comments and Documents

C. Privacy Act

D. Comments on the Information Collection

II. Background

III. Request for Information

I. Public Participation and Request for Comments

FMCSA encourages you to participate by submitting comments and related materials.

A. Submitting Comments

If you submit a comment, please include the docket number for this notice (FMCSA-2024-0061), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0061/document, click on this notice, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the Notice. Submissions containing CBI should be sent to Brian Dahlin, Chief, Regulatory Evaluation Division, Office of Policy, FMCSA, 1200 New Jersey Avenue SE, Washington DC 20590-0001 or via email at brian.g.dahlin@dot.gov. At this time, you need not send a duplicate hardcopy of your electronic CBI submissions to FMCSA headquarters. Any comments FMCSA receives not specifically designated as CBI will be placed in the public docket for this notice.

B. Viewing Comments and Documents

To view any documents mentioned as being available in the docket, go to https://www.regulations.gov/docket/FMCSA-2024-0061/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edit and are searchable by the name of the submitter.

II. Background

SASH are long-standing challenges for the CMV driving community, particularly for women. Addressing these challenges is a priority for the Department, FMCSA, and WOTAB.1 2 Through previous research efforts, FMCSA sought to understand, characterize, and assess the prevalence and severity of SASH within the CMV industry. FMCSA had little information on the breadth of SASH problems in the industry or recommendations for solutions, and a study, Crime Prevention for Truckers Study, helped frame the issues, including how to best support women in CMV careers through countermeasures designed to mitigate SASH.³ Further, this study evaluated harassment of women and minority men truckers with incidents among non-minority men serving as a control group.

¹ Chartered by the Secretary of Transportation on February 11, 2022, WOTAB is charged with reviewing and reporting on policies that provide education, training, mentorship, or outreach to women in the trucking industry and to improve recruitment, retention, or advancement of women in the trucking industry (https://www.fmcsa.dot.gov/wotab).

² https://www.fmcsa.dot.gov/advisory-committees/wotab/wotab-meetings.

³ https://www.fmcsa.dot.gov/research-and-analysis/crime-prevention-truckers-study.

The study found that harassment and crime against drivers are prevalent. Drivers reported a range of harassment types, such as being called offensive names or threatened with weapons. Further, harassment is not limited by gender and race, as the study found it extends to religion, lifestyle, and sexual orientation. The study concluded that women truck drivers are particularly vulnerable to crimes that are sexual in nature and are more likely to experience harassment from another truck driver or from trainers. Crimes against women truck drivers are more likely to happen at night, though they also occur throughout the day and cycle of a driver's run.

The study further found that many harassment incidents go unreported, but women are reporting more than men. Most respondents said that they did not think reporting harassment would make a difference. Many felt there might be retaliation or problems in some way, and they chose not to report the incident(s). However, women truck drivers were found to be two to four times more likely to report being touched without permission compared to non-minority men, and minority women were up to nine times more likely to report being physically harmed compared to non-minority men. Non-minority women are two to six times as likely than non-minority men to be touched without permission. The study included recommendations that were taken from the survey respondents' comments (although these recommendations were not evaluated to determine feasibility, appropriateness, and most importantly, their ability to improve driver safety).

When the study was released, WOTAB received several comments, formally and informally, from industry groups and organizations focused on researching and stopping violence against women and SASH.4 5 6 These organizations expressed concern that the FMCSA study was not comprehensive and that more questions needed to be asked to determine the full nature of the SASH problem. Key areas of concern included:

⁴ https://www.fmcsa.dot.gov/mission/advisory-committees/wotab/national-womens-law-center-public-comment.

⁵ https://www.fmcsa.dot.gov/mission/advisory-committees/wotab/futures-without-violence-public-comment.

⁶ https://www.fmcsa.dot.gov/mission/advisory-committees/wotab/real-women-trucking-public-comment-solutions-address-sexual.

1. Sample design and categories of gender, sexual orientation, and ethnicity.

2. Types of questions asked to capture SASH and not using the latest standards in SASH research to design questions.

3. Development of appropriate and evaluated recommendations to inform actions for SASH prevention.

While the study framed the SASH issues in the industry and provided some preliminary data to understand magnitude, WOTAB's discussions on the study and other issues for women in the CMV industry indicated a need for additional research, especially to support improved participation of women in CMV careers. Additional research was suggested to support potential policy changes that would address improvements to current practices and reporting methods for drivers related to SASH, and to establish improved outreach and safety resources. WOTAB noted in particular that it is important to understand SASH with additional depth and breadth to ensure there is an awareness of the magnitude of SASH across the industry.

Therefore, FMCSA seeks to develop a comprehensive, expanded study that achieves a deeper framing and understanding of baseline data and issues related to SASH. FMCSA seeks input from stakeholders to help in the design of a new study.

III. Request for Information

In developing the SASH study, FMCSA seeks input on the elements that should be included or considered. Please include answers to the following questions in your response:

1. What is the optimal study design to capture SASH information within the CMV industry, particularly among drivers? FMCSA is considering a survey and interview approach, as well as potential peer reviews of findings at key milestones throughout the study. What type of study design will best characterize the nature and scope of sexual assault and sexual harassment within the CMV industry that can be used to develop appropriate countermeasures?

2. What are best practices or methods for capturing gender identity information?

3. What are best practices to consider when asking demographic questions about sexual orientation and ethnicity?

4. Are there other categories of participant demographics that would improve the study (e.g., education, age, income, length of time in position (or in the industry), segment of the CMV industry, geographic region of operation, etc.)? Please be specific and provide rationale for including such questions, including how they may be used in characterizing the SASH problem and developing countermeasures and recommendations.

5. Who should be included (i.e., targeted stakeholders) in a SASH study for the CMV industry?

6. What options exist to best incorporate stakeholder input and feedback throughout the study (e.g., surveys, individual interviews, focus groups, or other formats)?

7. What research is available for designing and administering questions about SASH (e.g., style of questions, sequencing, repetition, phrasing, etc.)?

8. What are the best methods to capture SASH issues and trends throughout the evolution of one's career (trainee, driver, other positions across the CMV industry (e.g., manager, trainer, scheduler, safety employee, retiree, those who have left the industry)?

9. What are the optimum methods to capture the breadth of SASH? What categories of questions should FMCSA include that will ensure a comprehensive approach to the issue?

10. What are good practices for informing stakeholders and the public at key milestones during a long study? How can FMCSA best disseminate information (e.g., literature review, preliminary results) to keep stakeholders informed without compromising the integrity of the study?

Issued under authority delegated in 49 CFR 1.87.
Sue Lawless,
Acting Deputy Administrator.

[FR Doc. 2024-02539 Filed 2-7-24; 8:45 am]

BILLING CODE 4910-EX-P